DEPARTMENT OF ENERGY

Federal Energy Regulatory Commission

[Docket No. RP03-259-001]

Questar Pipeline Company; Notice of Tariff Filing

March 12, 2003.

Take notice that on March 7, 2003, Questar Pipeline Company (Questar) tendered for filing as part of its FERC Gas Tariff, First Revised Volume No. 1, Substitute Fifth Revised Sheet No. 56A; Substitute Second Revised Sheet No. 69; and Substitute Original Sheet No. 69A, to be effective April 7, 2003.

Questar states that this filing proposes to amend Questar's cleanup tariff filing that was filed February 20, 2003. Two sheets in that filing contained language that was not clear or could be interpreted as inconsistent with Commission policy. Questar seeks to rectify the February 20, 2003, filing.

Questar states that a copy of this filing has been served upon its customers, the Public Service Commission of Utah and the Public Service Commission of Wyoming.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 19, 2003.

Magalie R. Salas,
Secretary.

[FR Doc. 03-6533 Filed 3-18-03; 8:45 am]

BILLING CODE 6717-01-P